DEPARTMENT OF LABOR

Occupational Safety and Health Administration

[Docket No. OSHA-2013-0012]

Proposed Modification to the Scopes of Recognition of Several NRTLs

AGENCY: Occupational Safety and Health Administration (OSHA), Labor.

ACTION: Notice.

SUMMARY: In this notice, OSHA proposes to delete several test standards from the scopes of recognition of several nationally recognized testing laboratories (NRTLs), and to incorporate into the scopes of recognition of several NRTLs test standards to replace some of the deleted test standards.

DATES: Submit comments, information, and documents in response to this notice, or requests for an extension of time to make a submission, on or before July 26, 2013. All submissions must bear a postmark or provide other evidence of the submission date.

ADDRESSES: Electronically: Tender submissions electronically to the Federal eRulemaking Portal at http://www.regulations.gov. Follow the instructions online for making electronic submissions.

Facsimile: If submissions, including attachments, are not longer than ten (10) pages, commenters may fax them to the OSHA Docket Office at (202) 693-1648.

Regular or Express Mail, Hand Delivery, or Messenger (Courier) Service: Tender submissions to the OSHA Docket Office, Docket No. OSHA-2013-0012, Technical Data Center, Room N-2625, U.S. Department of Labor, 200 Constitution Avenue NW., Washington, DC 20210; telephone: (202) 693-2350 (TTY number: (877) 889-5627). Note that security procedures may result in significant delays in receiving submissions sent by regular mail. Contact the OSHA Docket Office for information about security procedures concerning delivery of materials by regular or express mail, hand delivery, or messenger (courier) service. The hours of operation for the OSHA Docket Office are 8:15 a.m.-4:45 p.m., e.t.

Instructions: All submissions must include the Agency name and the OSHA docket number (OSHA-2013-0012). OSHA places comments and other materials, including any personal information, in the public docket without revision, and these materials may be available online at http://www.regulations.gov. Therefore, the Agency cautions commenters about submitting statements they do not want made available to the public, or submitting comments that contain personal information (either about themselves or others) such as Social Security numbers, birth dates, and medical data.

Docket: To read or download submissions or other material in the docket, go to http://www.regulations.gov or to the OSHA Docket Office at the address above. The http://www.regulations.gov index lists all documents in the docket; however, some information (e.g., copyrighted material) is not publicly available to read or download through this Web site. All documents in the docket, including copyrighted material, are available for inspection at the OSHA Docket Office.

FOR FURTHER INFORMATION CONTACT: Information regarding this notice is available from the following sources:

Press Inquiries: Contact Mr. Frank Meilinger, Director, OSHA Office of Communications, Room N-3647, U.S. Department of Labor, 200 Constitution Avenue NW., Washington, DC 20210; telephone: (202) 693-1999; email: Meilinger.francis2@dol.gov.

General and Technical Information: Contact Mr. David Johnson, NRTL Program, Occupational Safety and Health Administration, Room N-3655, U.S. Department of Labor, 200 Constitution Avenue NW., Washington, DC 20210; telephone (202) 693-2110. OSHA's Web page includes information about the NRTL Program (see http://www.osha.gov and select “N” in the “A to Z Index” located at the top of the Web page).

Copies of this Federal Register Notice: Electronic copies of this Federal Register notice are available at http://www.regulations.gov. This Federal Register notice, as well as other relevant information, is also available on OSHA's Web page at http://www.osha.gov.

SUPPLEMENTARY INFORMATION:

I. Background

The NRTL Program recognizes organizations that provide product-safety testing and certification services to manufacturers. These organizations perform testing and certification, for purposes of the Program, to U.S. consensus-based product-safety test standards. OSHA does not develop or issue these test standards, but generally relies on U.S. standards-development organizations (SDOs) accredited by the American National Standards Institute (ANSI). The products covered by the Program consist of those items for which OSHA safety standards require “certification” by an NRTL. The requirements affect electrical products and 38 other types of products.

OSHA recognition of an organization as an NRTL signifies that the organization meets the legal requirements in the NRTL Program regulations at 29 CFR 1910.7 and the NRTL Program policies in CPL 1-0.3 NRTL Program Policies, Procedures, and Guidelines (“Directive”). Recognition is an acknowledgement by OSHA that the NRTL can perform independent safety testing and certification of the specific products covered within the NRTL's scope of recognition. Recognition of an NRTL by OSHA also allows employers to use products certified by that NRTL to meet those OSHA standards that require product testing and certification (29 CFR 1910.7(a)).

An NRTL's scope of recognition consists, in part, of the specific test standard(s) approved by OSHA for use by the NRTL. Pursuant to the NRTL Program regulations, the NRTL must first request to have a test standard included in its scope of recognition. OSHA will grant the NRTL's request only if the NRTL has the capability to test and examine equipment ¹ and materials for workplace safety purposes and to determine conformance with the test standard for each relevant item of equipment or material that it lists, labels, or accepts (29 CFR 1910.7(b)(1)). Capability includes proper testing equipment and facilities, trained staff, written testing procedures, and calibration and quality-control programs. An organization's recognition as an NRTL is, therefore, not for products, but for “appropriate” test standards covering a type of product(s) (29 CFR 1910.7(b)(1)).

¹ In this notice, OSHA uses the terms “equipment” and “product” or “products” interchangeably.

Pursuant to the NRTL Program regulations, to be “appropriate,” a test standard must be current, and it must specify the safety requirements for a specific type of product(s) (29 CFR 1910.7(c)). OSHA policy provides that a document specifies safety requirements for a specific type product(s) if the document includes “features, parts, capabilities, usage limitations, or installation requirements which if they did not exist would create a potential hazard in using the equipment” (Directive, App. D.IV.B). However, OSHA policy also provides that the document not “focus primarily on usage, installation, or maintenance requirements” (Directive, App. D.IV.B). Finally, as OSHA requires the testing and certification of certain products only (29 CFR 1910.7(a)), an NRTL's scope of recognition should not include test standards that do not specify safety requirements for products for which OSHA does not require testing and certification (Directive, App. D.IV.A).

II. Modifying Test Standards in NRTLs' Scopes of Recognition

A. Proposed Deletion of Withdrawn Test Standards From, and Incorporation of Replacement Test Standards Into, the Scopes of Recognition of Several NRTLs

In this notice, OSHA proposes to delete several withdrawn test standards from the scopes of recognition of several NRTLs. OSHA also proposes to incorporate into the scopes of recognition of several NRTLs test standards to replace some of the withdrawn (and deleted) test standards.

The NRTL Program regulations require that appropriate test standards be current (29 CFR 1910.7(c)). A test standard withdrawn by a standards organization is no longer considered an appropriate test standard (Directive, App. C.XIV.B). It is OSHA's policy to remove recognition of withdrawn test standards by issuing a correction notice in the Federal Register for all NRTLs recognized for the withdrawn test standards. However, OSHA will recognize an NRTL for an appropriate replacement test standard if the NRTL has the requisite testing and evaluation capability for the replacement test standard.

One method that NRTLs may use to show such capability involves an analysis to determine whether any testing and evaluation requirements of existing test standards in an NRTL's scope are comparable (i.e., are completely or substantially identical) to the requirements in the replacement test standard. If OSHA's analysis shows the replacement test standard does not require additional or different technical capability than an existing test standard(s), the replacement test standard is comparable to the existing test standard(s), and OSHA can add the replacement test standard to affected NRTLs' scopes of recognition. In making this determination, OSHA also considers the documents or medium that the NRTL uses to record test and evaluation data or results, which OSHA commonly calls “test datasheets,” to be part of the NRTL's written testing procedures.²

² Such datasheets may be electronic records or hardcopies, and must ensure that the NRTL will capture all necessary test and evaluation data or results completely and accurately. Additionally, datasheets may be separate or combined in other documents or records.

If OSHA's analysis shows the replacement test standard requires an additional or different technical capability, the replacement test standard is not comparable to any existing test standards. Furthermore, if a replacement test standard requires the NRTL to modify its datasheets substantively, or to develop new datasheets, then the test standards are also not comparable. In such cases (i.e., when the test standards are not comparable), each affected NRTL that seeks to have OSHA add the replacement test standard to the NRTL's scope of recognition must provide information to OSHA that demonstrates technical capability.

B. Proposed Deletion of Inappropriate Test Standards From the Scopes of Recognition of Several NRTLs

OSHA proposes to delete several test standards from the scopes of recognition of several NRTLs based on a recent internal review in which NRTL Program staff determined that several test standards currently in the NRTLs' scopes of recognition did not conform to the definition of appropriate test standard defined in NRTL Program regulations and policy. First, one of the documents at issue, UL 1666, provides the methodology for one test only, and is, therefore, a test method rather than an appropriate test standard (29 CFR 1910.7(c)). As stated above, a test standard must specify the safety requirements for a specific type of product(s). Id. A test method, however, is a “specified technical procedure for performing a test” (Directive, App. B). As such, a test method is not an appropriate test standard: While an NRTL may use a test method to determine if certain safety requirements are met, a test method is not itself a safety requirement for a specific product.

Second, several of the documents focus primarily on usage, installation, or maintenance requirements. As stated above, such documents are not appropriate test standards (Directive, App. D.IV.B).

Third, some of the documents are not appropriate test standards because the documents cover products for which OSHA does not require testing and certification (Directive, App. D.IV.A). OSHA initially recognized these documents for use in the NRTL Program under OSHA standards such as 29 CFR 1910.68. These OSHA standards do not require testing and certification for the product(s) covered by the documents OSHA proposes to delete.

Finally, several of the documents cover electrical-product components, such as transformers, resistors, and capacitors used in television-type appliances. These documents apply to types of components that have limitation(s) or condition(s) on their use, in that they are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scopes of recognition any test standards covering end-use products that contain such components.³

³ OSHA notes also that some types of devices covered by these documents, such as capacitors and transformers, may be end-use products themselves, and tested under other test standards applicable to such products. For example, the following test standard covers transformers that are end-use products: UL 1562 Standard for Transformers, Distribution, Dry-Type—Over 600 Volts. OSHA is not proposing to delete such test standards from NRTLs' scopes of recognition.

In addition, OSHA notes that, to conform to a test standard covering an end-use product, an NRTL must still determine that the components in the product comply with these components' specific test standards, some of which OSHA is proposing to delete in this notice. In making this determination, NRTLs may test the components themselves, or accept the testing of a qualified testing organization that a given component conforms to its particular test standard. OSHA reviews each NRTL's procedures to determine which approach the NRTL will use to address components, and reviews the end-use product testing to verify the NRTL appropriately addresses that product's components.

OSHA added the documents now subject to deletion to affected NRTLs' scopes of recognition before OSHA issued the NRTL Program Directive. The Directive clarified the meaning of “appropriate test standard.” After issuing the Directive, OSHA deleted some documents from NRTLs' scopes of recognition because those documents were not appropriate test standards (see 70 FR 11273, March 8, 2005). After further review of the entire list of test standards recognized under the NRTL Program, OSHA determined that it should delete additional documents from NRTLs' scopes of recognition. In all cases, these deletions would be programmatic corrections only, and do not reflect OSHA's view of the technical merits of the documents. In addition, deleting these documents from the NRTLs' scopes of recognition would not prevent testing organizations (including NRTLs) from using the deleted documents for their testing activities.

III. Test Standards OSHA Proposes To Delete and Incorporate

Table 1 lists the test standards that OSHA proposes to delete from affected NRTLs' scopes of recognition, as well as an abbreviated rationale for OSHA's proposed actions. For a full discussion of the rationale, see, above, Sections II.A and II.B of this notice. Table 1 also lists corresponding replacement test standards that OSHA proposes to incorporate into the NRTLs' scopes of recognition (when applicable).

In most cases, OSHA already incorporated the proposed replacement test standards into affected NRTLs' scopes of recognition. OSHA proposes one of the following actions with respect to the remaining cases:

1. OSHA proposes to incorporate, for all affected NRTLs, comparable test standards that SDOs adopted to replace withdrawn (and deleted) test standards; or

2. OSHA proposes to incorporate, for all affected NRTLs, appropriate test standards that OSHA concludes are comparable to the withdrawn (and deleted) test standards.

OSHA notes that it is not proposing to delete UL 664 from the scopes of recognition of affected NRTLs, even though Underwriters Laboratories withdrew UL 664. OSHA currently is examining whether it can incorporate any test standard(s) into the scopes of recognition of affected NRTLs to replace UL 664. Once OSHA completes this examination, it will issue a new Federal Register notice addressing the deletion of UL 664 from the scopes of recognition of affected NRTLs.

OSHA also notes that it is not proposing to delete UL 1004 from the scopes of recognition of affected NRTLs even though Underwriters Laboratories withdrew UL 1004, and issued UL 1004-1 as a replacement. Unlike other replacements shown in this notice, OSHA believes that UL 1004-1 is not comparable to UL 1004. OSHA currently is working on a separate Federal Register notice that will propose how OSHA plans to incorporate such test standard(s), and a number of other test standards, into the scopes of recognition of affected NRTLs. OSHA plans to publish this notice in the near future.

OSHA notes also that Table 1 lists the subject test standards and the proposed action with regard to each of these test standards without indicating how the proposed action will affect individual NRTLs. Section IV of this notice discusses how the proposed action will affect individual NRTLs.

Table 1—List of Test Standards OSHA Proposes To Delete From or Incorporate Into NRTL Scopes of Recognition
Proposed deleted test standard | Reason for proposed deletion | Proposed replacement test standard(s) (if applicable)
ANSI A90.1 Safety Standard for Belt Manlifts | 29 CFR 1910.68 does not require testing and certification for covered product(s); also not an appropriate test standard because it covers primarily the manufacture, installation, maintenance, inspection, and operation of manlifts, not safety testing | Not applicable (NA).
ASTM E2074 Standard Test Method for Fire Tests of Door Assemblies, Including Positive Pressure Testing of Side-Hinged and Pivoted Swinging Door Assemblies | Withdrawn | No replacement.
ANSI/NFPA 11A Medium- and High-Expansion Foam Systems | Withdrawn; moreover, OSHA standards do not require testing and certification for covered systems | NA. Although replaced by ANSI/NFPA 11, ANSI/NFPA 11 is not an appropriate test standard (see 75 FR 77002, 77004-77005, Dec. 10, 2010, for discussion of why ANSI/NFPA 11 is not appropriate).
ANSI/NFPA 20 Installation of Stationary Fire Pumps for Fire Protection | Not an appropriate test standard because it covers primarily the selection and installation of these pumps, not safety testing | NA.
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 1 below).
UL 207 Refrigerant-Containing Components and Accessories, Nonelectrical | No requirement for NRTL approval because the standard covers components that are not appropriate for use as end-use products | NA.
UL 343 Pumps for Oil-Burning Appliances | No requirement for NRTL approval of this type of pump | NA.
UL 512 Fuseholders | Withdrawn | UL 4248-1 Fuseholders—Part 1: General Requirements.
|  | UL 4248-4 Fuseholders—Part 4: Class CC.
|  | UL 4248-5 Fuseholders—Part 5: Class G.
|  | UL 4248-6 Fuseholders—Part 6: Class H.
|  | UL 4248-8 Fuseholders—Part 8: Class J.
|  | UL 4248-9 Fuseholders—Part 9: Class K.
|  | UL 4248-11 Fuseholders—Part 11: Type C (Edison Base) and Type S Plug Fuse.
|  | UL 4248-12 Fuseholders—Part 12: Class R.
|  | UL 4248-15 Fuseholders—Part 15: Class T (for all replacement standards, see Note 1 below).
UL 544 Medical and Dental Equipment | Withdrawn | UL 60601-1 Medical Electrical Equipment, Part 1: General Requirements for Safety (see Note 1 below).
UL 632 Electrically-Actuated Transmitters | Withdrawn | No replacement.
UL 651B Continuous Length HDPE Conduit | Withdrawn | UL 651A Schedule 40 and 80 High Density Polyethylene (HDPE) Conduit (see Note 1 below).
UL 698 Industrial Control Equipment for Use in Hazardous (Classified) Locations | Withdrawn | UL 1203 Explosion Proof and Dust Ignition Proof Electrical Equipment for Use in Hazardous (Classified) Locations (see Note 1 below).
UL 745-2-2 Particular Requirements for Screwdrivers and Impact Wrenches | Withdrawn | UL 60745-2-2 Hand-Held Motor-Operated Electric Tools—Safety—Part 2-2: Particular Requirements for Screwdrivers and Impact Wrenches (see Note 1 below).
UL 745-2-4 Particular Requirements for Sanders | Withdrawn | UL 60745-2-4 Hand-Held Motor-Operated Electric Tools—Safety—Part 2-4: Particular Requirements for Sanders and Polishers Other Than Disk Type (see Note 1 below).
UL 745-2-6 Particular Requirements for Hammers | Withdrawn | UL 60745-2-6 Hand-Held Motor-Operated Electric Tools—Safety—Part 2-6: Particular Requirements for Hammers (see Note 1 below).
UL 745-2-8 Particular Requirements for Shears and Nibblers | Withdrawn | UL 60745-2-8 Hand-Held Motor-Operated Electric Tools Safety—Part 2-8: Particular Requirements for Shears and Nibblers (see Note 1 below).
UL 745-2-9 Particular Requirements for Tappers | Withdrawn | UL 60745-2-9 Hand-Held Motor-Operated Electric Tools—Safety—Part 2-9: Particular Requirements for Tappers (see Note 1 below).
UL 745-2-11 Particular Requirements for Reciprocating Saws | Withdrawn | UL 60745-2-11 Hand-Held Motor-Operated Electric Tools—Safety—Part 2-11: Particular Requirements for Reciprocating Saws (see Note 1 below).
UL 745-2-12 Particular Requirements for Concrete Vibrators | Withdrawn | UL 60745-2-12 Hand-Held Motor-Operated Electric Tools—Safety—Part 2-12: Particular Requirements For Concrete Vibrators (see Note 1 below).
UL 745-2-30 Particular Requirements for Staplers | Withdrawn | UL 60745-2-16 Hand-Held Motor-Operated Electric Tools—Safety—Part 2-16: Particular Requirements for Tackers (see Note 1 below).
UL 745-2-33 Particular Requirements for Portable Bandsaw | Withdrawn | UL 60745-2-20 Hand-Held Motor-Operated Electric Tools—Safety—Part 2-20: Particular Requirements For Band Saws (see Note 1 below).
UL 745-2-34 Particular Requirements for Strapping Tools | Withdrawn | UL 60745-2-18 Hand-Held Motor-Operated Electric Tools—Safety—Part 2-18: Particular Requirements For Strapping Tools (see Note 1 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed-Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 1 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 1 below).
UL 886 Outlet Boxes and Fittings for Use in Hazardous (Classified) Locations | Withdrawn | UL 1203 Explosion Proof and Dust Ignition Proof Electrical Equipment for Use in Hazardous (Classified) Locations (see Note 1 below).
UL 894 Switches for Use in Hazardous (Classified) Locations | Withdrawn | UL 1203 Explosion Proof and Dust Ignition Proof Electrical Equipment for Use in Hazardous (Classified) Locations (see Note 1 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 1 below).
UL 1005 Electric Flatirons | Withdrawn | UL 60335-2-3 Household and Similar Electrical Appliances, Part 2: Particular Requirements for Electric Irons (see Note 1 below).
UL 1010 Receptacle Plug Combinations for Use in Hazardous (Classified) Locations | Withdrawn | UL 1203 Explosion Proof and Dust Ignition Proof Electrical Equipment for Use in Hazardous (Classified) Locations (see Note 1 below).
UL 1075 Gas-Fired Cooking Appliances for Recreational Vehicles | Withdrawn | No replacement.
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1445 Electric Water Bed Heaters | Withdrawn | No replacement.
UL 1604 Electrical Equipment for Use in Class I and II, Division 2 and Class III Hazardous (Classified) Locations | Withdrawn | ANSI/ISA-12.12.01 Nonincendive Electrical Equipment for Use in Class I and II, Division 2 and Class III, Divisions 1 and 2 Hazardous (Classified) Locations (see Note 1 below).
UL 1664 Immersion Detection Circuit Interrupters | Withdrawn | No replacement.
UL 1666 Test for Flame Propagation Height of Electrical and Optical Fiber Cables Installed Vertically in Shafts | Test method; therefore, not an appropriate test standard | NA.
UL 1684 Reinforced Thermosetting Resin Conduit (RTRC) and Fittings | Withdrawn | UL 2420 Belowground Reinforced Thermosetting Resin Conduit (RTRC) and Fittings and UL 2515 Aboveground Reinforced Thermosetting Resin Conduit (RTRC) and Fittings (for both replacement standards, see Note 1 below).
UL 1686 Pin and Sleeve Configurations | Not an appropriate test standard; does not specify safety requirements for covered devices; provides the physical dimensions for covered devices only | NA.
UL 1692 Polymeric Materials Coil Forms | No requirement for NRTL approval because the standard covers components that are not appropriate for use as end-use products | NA.
UL 1694 Tests for Flammability of Small Polymeric Component Materials) | No requirement for NRTL approval because the standard covers components that are not appropriate for use as end-use products | NA.
UL 2106 Field Erected Boiler Assemblies | No requirement for NRTL approval in OSHA requirements; test standard applies to boilers burning fuel | NA.
UL 60691 Thermal Links Requirements and Application Guide | No requirement for NRTL approval because the standard covers components that are not appropriate for use as end-use products | NA.

Note 1: OSHA believes the proposed replacement test standard is comparable to the withdrawn test standard. Therefore, OSHA proposes to incorporate the replacement test standard into affected NRTLs' scopes of recognition without requiring affected NRTLs to further demonstrate capability, as specified by 29 CFR 1910.7(b)(1). OSHA notes that such proposed action is not necessary for those NRTLs with scopes of recognition that already include the proposed replacement test standard.

IV. Proposed Modifications to Affected NRTLs' Scopes of Recognition

The tables in this section (Table 2 thru Table 13) list, for each affected NRTL, the test standard(s) that OSHA proposes to delete from the scope of recognition of the NRTL and, when applicable, the test standard(s) that OSHA proposes to incorporate into the scope of recognition of that NRTL to replace withdrawn (and deleted) test standards. Notes to the tables make clear whether individual NRTLs must submit information to demonstrate their capability for each proposed replacement test standard.

OSHA seeks the following input on whether the actions OSHA proposes in the tables are appropriate:

1. OSHA seeks comment on whether its proposed deletions and incorporations are appropriate, and whether individual tables omit any appropriate replacement test standard that is comparable to a withdrawn test standard. If OSHA determines that it omitted any appropriate replacement test standard that is comparable to a withdrawn test standard, it will, in its final determination, incorporate that replacement test standard into the scope of recognition of each affected NRTL.

2. In addition, the test standards listed in the tables include only withdrawn or otherwise inappropriate standards of which OSHA became aware on or before May 1, 2013. OSHA seeks input on whether individual NRTLs' scopes of recognition contain any additional withdrawn or otherwise inappropriate test standards.

OSHA will incorporate into its informational Web pages the modifications OSHA decides to make to each NRTL's scope of recognition. These Web pages detail the scope of recognition for each NRTL, including the test standards the NRTL may use to test and certify products under OSHA's NRTL Program. OSHA also will add, to its “Composite List of Standards Recognized under the NRTL Program” Web page, those test standards it incorporates into affected NRTLs' scopes of recognition, and add, to its “Composite List of Test Standards No Longer Recognized” Web page, those test standards that OSHA no longer recognizes or permits under the NRTL Program. Access to these Web pages is available at http://www.osha.gov/dts/otpca/nrtl/index.html.

OSHA proposes the following revisions to the scopes of recognition of individual NRTLs:

Table 2—Test Standards OSHA Proposes To Delete From or Incorporate Into the Scope of Recognition of the Canadian Standards Association (CSA)
Proposed deleted test standard | Reason for proposed deletion | Proposed replacement test standard(s) (if applicable)
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 2 below).
UL 207 Refrigerant-Containing Components and Accessories, Nonelectrical | No requirement for NRTL approval because the standard covers components that are not appropriate for use as end-use products | NA.
UL 343 Pumps for Oil-Burning Appliances | No requirement for NRTL approval of this type of pump | NA.
UL 512 Fuseholders | Withdrawn | UL 4248-1 Fuseholders—Part 1: General Requirements.
|  | UL 4248-4 Fuseholders—Part 4: Class CC.
|  | UL 4248-5 Fuseholders—Part 5: Class G.
|  | UL 4248-6 Fuseholders—Part 6: Class H.
|  | UL 4248-8 Fuseholders—Part 8: Class J.
|  | UL 4248-9 Fuseholders—Part 9: Class K.
|  | UL 4248-11 Fuseholders—Part 11: Type C (Edison Base) and Type S Plug Fuse.
|  | UL 4248-12 Fuseholders—Part 12: Class R.
|  | UL 4248-15 Fuseholders—Part 15: Class T (for all replacement standards, see Note 3 below).
UL 544 Medical and Dental Equipment | Withdrawn | UL 60601-1 Medical Electrical Equipment, Part 1: General Requirements for Safety (see Note 2 below).
UL 632 Electrically-Actuated Transmitters | Withdrawn | No replacement.
UL 651B Continuous Length HDPE Conduit | Withdrawn | UL 651A Schedule 40 and 80 High Density Polyethylene (HDPE) Conduit (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed- Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 2 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 2 below).
UL 1005 Electric Flatirons | Withdrawn | UL 60335-2-3 Household and Similar Electrical Appliances, Part 2: Particular Requirements for Electric Irons (see Note 3 below).
UL 1010 Receptacle Plug Combinations for Use in Hazardous (Classified) Locations | Withdrawn | UL 1203 Explosion Proof and Dust Ignition Proof Electrical Equipment for Use in Hazardous (Classified) Locations (see Note 2 below).
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 3 below).
UL 1664 Immersion Detection Circuit Interrupters | Withdrawn | No replacement.
UL 1666 Test for Flame Propagation Height of Electrical and Optical Fiber Cables Installed Vertically in Shafts | Test method; therefore, not an appropriate test standard | NA.
UL 1684 Reinforced Thermosetting Resin Conduit (RTRC) and Fittings | Withdrawn | UL 2420 Belowground Reinforced Thermosetting Resin Conduit (RTRC) and Fittings and UL 2515 Aboveground Reinforced Thermosetting Resin Conduit (RTRC) and Fittings (for both replacement standards, see Note 3 below).
UL 60691 Thermal-Links Requirements and Application Guide | No requirement for NRTL approval because the standard covers components that are not appropriate for use as end-use products | NA.

Note 2: OSHA believes the proposed replacement test standard is comparable to the withdrawn test standard. Moreover, OSHA already includes the proposed replacement test standard in the NRTL's scope of recognition. Therefore, no further demonstration of capability is necessary at this time.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 3—Test Standards OSHA Proposes To Delete From or Incorporate Into the Scope of Recognition of Curtis-Straus LLC
Proposed deleted test standard | Reason for proposed deletion | Proposed replacement test standard(s) (if applicable)
UL 544 Medical and Dental Equipment | Withdrawn | UL 60601-1 Medical Electrical Equipment, Part 1: General Requirements for Safety (see Note 2 below).

Note 2: OSHA believes the proposed replacement test standard is comparable to the withdrawn test standard. Moreover, OSHA already includes the proposed replacement test standard in the NRTL's scope of recognition. Therefore, no further demonstration of capability is necessary at this time.

Table 4—Test Standards OSHA Proposes To Delete From or Incorporate Into the Scope of Recognition of FM Approvals LLC
Proposed deleted test standard | Reason for proposed deletion | Proposed replacement test standard(s) (if applicable)
UL 698 Industrial Control Equipment for Use in Hazardous (Classified) Locations | Withdrawn | UL 1203 Explosion Proof and Dust Ignition Proof Electrical Equipment for Use in Hazardous (Classified) Locations (see Note 2 below).
UL 781 Portable Electric Lighting Units for Use in Hazardous (Classified) Locations | Withdrawn | UL 844 Electric Lighting Fixtures for Use in Hazardous (Classified) Locations (see Note 2 below).
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 1002 Electrically Operated Valves for Use in Hazardous (Classified) Locations | Withdrawn | UL 1203 Explosion Proof and Dust Ignition Proof Electrical Equipment for Use in Hazardous (Classified) Locations (see Note 2 below).

Note 2: OSHA believes the proposed replacement test standard is comparable to the withdrawn test standard. Moreover, OSHA already includes the proposed replacement test standard in the NRTL's scope of recognition. Therefore, no further demonstration of capability is necessary at this time.

Table 5—Test Standards OSHA Proposes To Delete From or Incorporate Into the Scope of Recognition of Intertek Testing Services NA, Inc.
Proposed deleted test standard | Reason for proposed deletion | Proposed replacement test standard(s) (if applicable)
ANSI A90.1 Safety Standard for Belt Manlifts | 29 CFR 1910.68 does not require testing and certification for covered product(s); also not an appropriate test standard because it covers primarily the manufacture, installation, maintenance, inspection, and operation of manlifts, not safety testing | NA.
ASTM E2074 Standard Test Method for Fire Tests of Door Assemblies, Including Positive Pressure Testing of Side-Hinged and Pivoted Swinging Door Assemblies | Withdrawn | No replacement.
ANSI/NFPA 11A Medium- and High-Expansion Foam Systems | Withdrawn; moreover, OSHA standards do not require testing and certification for covered systems | NA. Although replaced by ANSI/NFPA 11, ANSI/NFPA 11 is not an appropriate test standard (see 75 FR 77002, 77004-77005, Dec. 10, 2010, for discussion of why ANSI/NFPA 11 is not appropriate).
ANSI/NFPA 20 Installation of Stationary Fire Pumps for Fire Protection | Not an appropriate test standard because it covers primarily the selection and installation of these pumps, not safety testing | NA.
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 2 below).
UL 207 Refrigerant-Containing Components and Accessories, Nonelectrical | No requirement for NRTL approval because the standard covers components that are not appropriate for use as end-use products | NA.
UL 343 Pumps for Oil-Burning Appliances | No requirement for NRTL approval of this type of pump | NA.
UL 512 Fuseholders | Withdrawn | UL 4248-1 Fuseholders—Part 1: General Requirements.
|  | UL 4248-4 Fuseholders—Part 4: Class CC.
|  | UL 4248-5 Fuseholders—Part 5: Class G.
|  | UL 4248-6 Fuseholders—Part 6: Class H.
|  | UL 4248-8 Fuseholders—Part 8: Class J.
|  | UL 4248-9 Fuseholders—Part 9: Class K.
|  | UL 4248-11 Fuseholders—Part 11: Type C (Edison Base) and Type S Plug Fuse.
|  | UL 4248-12 Fuseholders—Part 12: Class R.
|  | UL 4248-15 Fuseholders—Part 15: Class T (for all replacement standards, see Note 3 below).
UL 544 Medical and Dental Equipment | Withdrawn | UL 60601-1 Medical Electrical Equipment, Part 1: General Requirements for Safety (see Note 2 below).
UL 632 Electrically-Actuated Transmitters | Withdrawn | No replacement.
UL 651B Continuous Length HDPE Conduit | Withdrawn | UL 651A Schedule 40 and 80 High Density Polyethylene (HDPE) Conduit (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed-Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 2 below).
UL 796 Printed-Wiring Boards | No requirement for NRTL approval because the standard covers components that are not appropriate for use as end-use products. | NA.
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 2 below).
UL 1005 Electric Flatirons | Withdrawn | UL 60335-2-3 Household and Similar Electrical Appliances, Part 2: Particular Requirements for Electric Irons (see Note 3 below).
UL 1010 Receptacle Plug Combinations for Use in Hazardous (Classified) Locations | Withdrawn | UL 1203 Explosion Proof and Dust Ignition Proof Electrical Equipment for Use in Hazardous (Classified) Locations (see Note 2 below).
UL 1075 Gas-Fired Cooking Appliances for Recreational Vehicles | Withdrawn | No replacement.
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio- and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1445 Electric Water Bed Heaters | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 2 below).
UL 1664 Immersion Detection Circuit Interrupters | Withdrawn | No replacement.
UL 1666 Test for Flame Propagation Height of Electrical and Optical Fiber Cables Installed Vertically in Shafts | Test method; therefore, not an appropriate test standard | NA.
UL 1694 Tests for Flammability of Small Polymeric Component Materials | No requirement for NRTL approval because the standard covers components that are not appropriate for use as end-use products | NA.
UL 2106 Field Erected Boiler Assemblies | No requirement for NRTL approval in OSHA requirements; test standard applies to boilers burning fuel | NA.
UL 60691 Thermal-Links-Requirements and Application Guide | No requirement for NRTL approval because the standard covers components that are not appropriate for use as end-use products | NA.

Note 2: OSHA believes the proposed replacement test standard is comparable to the withdrawn test standard. Moreover, OSHA already includes the proposed replacement test standard in the NRTL's scope of recognition. Therefore, no further demonstration of capability is necessary at this time.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 6—Test Standards OSHA Proposes To Delete From or Incorporate Into the Scope of Recognition of MET Laboratories, Inc.
Proposed deleted test standard | Reason for proposed deletion | Proposed replacement test standard(s) (if applicable)
UL 187 X Ray Equipment | Withdrawn | UL 60601-1 Medical Electrical Equipment, Part 1: General Requirements for Safety (see Note 2 below).
UL 544 Medical and Dental Equipment | Withdrawn | UL 60601-1 Medical Electrical Equipment, Part 1: General Requirements for Safety (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 886 Outlet Boxes and Fittings for Use in Hazardous (Classified) Locations | Withdrawn | UL 1203 Explosion Proof and Dust Ignition Proof Electrical Equipment for Use in Hazardous (Classified) Locations (see Note 2 below).
UL 983 Surveillance Camera Units | Withdrawn | No replacement.
UL 1005 Electric Flatirons | Withdrawn | UL 60335-2-3 Household and Similar Electrical Appliances, Part 2: Particular Requirements for Electric Irons (see Note 3 below).
UL 1411 Transformers and Motor Transformers for Use In Audio-, Radio-, and Television-Type Appliances | No requirement for NRTL approval because the standard covers components that are not appropriate for use as end-use products | NA.
UL 1433 Control Centers for Changing Message Type Electric Signs | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 3 below).

Note 2: OSHA believes the proposed replacement test standard is comparable to the withdrawn test standard. Moreover, OSHA already includes the proposed replacement test standard in the NRTL's scope of recognition. Therefore, no further demonstration of capability is necessary at this time.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 7—Test Standards OSHA Proposes To Delete From or Incorporate Into the Scope of Recognition of NSF International
Proposed deleted test standard | Reason for proposed deletion | Proposed replacement test standard(s) (if applicable)
UL 651B Continuous Length HDPE Conduit | Withdrawn | UL 651A Schedule 40 and 80 High Density Polyethylene (HDPE) Conduit (see Note 2 below).

Note 2: OSHA believes the proposed replacement test standard is comparable to the withdrawn test standard. Moreover, OSHA already includes the proposed replacement test standard in the NRTL's scope of recognition. Therefore, no further demonstration of capability is necessary at this time.

Table 8—Test Standards OSHA Proposes To Delete From or Incorporate Into the Scope of Recognition of SGS U.S. Testing Company, Inc.
Proposed deleted test standard | Reason for proposed deletion | Proposed replacement test standard(s) (if applicable)
UL 544 Medical and Dental Equipment | Withdrawn | UL 60601-1 Medical Electrical Equipment, Part 1: General Requirements for Safety (see Note 2 below).
UL 632 Electrically-Actuated Transmitters | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 3 below).

Note 2: OSHA believes the proposed replacement test standard is comparable to the withdrawn test standard. Moreover, OSHA already includes the proposed replacement test standard in the NRTL's scope of recognition. Therefore, no further demonstration of capability is necessary at this time.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 9—Test Standard OSHA Proposes To Delete From the Scope of Recognition of Southwest Research Institute
Proposed deleted test standard | Reason for proposed deletion | Proposed replacement test standard(s) (if applicable)
ASTM E2074 Standard Test Method for Fire Tests of Door Assemblies, Including Positive Pressure Testing of Side-Hinged and Pivoted Swinging Door Assemblies | Withdrawn | No replacement.

Table 10—Test Standards OSHA Proposes To Delete From or Incorporate Into the Scope of Recognition of TUV America, Inc.
Proposed deleted test standard | Reason for proposed deletion | Proposed replacement test standard(s) (if applicable)
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 1005 Electric Flatirons | Withdrawn | UL 60335-2-3 Household and Similar Electrical Appliances, Part 2: Particular Requirements for Electric Irons (see Note 2 below).
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.

Note 2: OSHA believes the proposed replacement test standard is comparable to the withdrawn test standard. Moreover, OSHA already includes the proposed replacement test standard in the NRTL's scope of recognition. Therefore, no further demonstration of capability is necessary at this time.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 11—Test Standards OSHA Proposes To Delete From or Incorporate Into the Scope of Recognition of TUV Product Services GmbH
Proposed deleted test standard | Reason for proposed deletion | Proposed replacement test standard(s) (if applicable)
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 1005 Electric Flatirons | Withdrawn | UL 60335-2-3 Household and Similar Electrical Appliances, Part 2: Particular Requirements for Electric Irons (see Note 3 below).
UL 1411 Transformers and Motor Transformers for Use In Audio-, Radio-, and Television-Type Appliances | No requirement for NRTL approval because the standard covers components that are not appropriate for use as end-use products | NA.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 12—Test Standards OSHA Proposes To Delete From or Incorporate Into the Scope of Recognition of TUV Rheinland of North America, Inc.
Proposed deleted test standard | Reason for proposed deletion | Proposed replacement test standard(s) (if applicable)
ANSI A90.1 Safety Standard for Belt Manlifts | 29 CFR 1910.68 does not require testing and certification for covered product(s); also not an appropriate test standard because it covers primarily the manufacture, installation, maintenance, inspection, and operation of manlifts, not safety testing | NA.
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 983 Surveillance Camera Units | Withdrawn | No replacement.
UL 1005 Electric Flatirons | Withdrawn | UL 60335-2-3 Household and Similar Electrical Appliances, Part 2: Particular Requirements for Electric Irons (see Note 3 below),
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 2106 Field Erected Boiler Assemblies | No requirement for NRTL approval in OSHA requirements; test standard applies to boilers burning fuel | NA.

Note 3: OSHA believes the proposed replacement test standard is comparable to the withdrawn test standard. Therefore, OSHA proposes to incorporate the replacement test standard into the NRTLs' scopes of recognition without requiring the NRTL to further demonstrate capability, as specified by 29 CFR 1910.7(b)(1).

Table 13—Test Standards OSHA Proposes To Delete From or Incorporate Into the Scope of Recognition of Underwriters Laboratories Inc.
Proposed deleted test standard | Reason for proposed deletion | Proposed replacement test standard(s) (if applicable)
ANSI/NFPA 20 Installation of Stationary Fire Pumps for Fire Protection | Not an appropriate test standard because it covers primarily the selection and installation of these pumps, not safety testing | NA.
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 2 below).
UL 207 Refrigerant-Containing Components and Accessories, Nonelectrical | No requirement for NRTL approval because the standard covers components that are not appropriate for use as end-use products | NA.
UL 343 Pumps for Oil-Burning Appliances | No requirement for NRTL approval of this type of pump | NA.
UL 512 Fuseholders | Withdrawn | UL 4248-1 Fuseholders—Part 1: General Requirements.
|  | UL 4248-4 Fuseholders—Part 4: Class CC.
|  | UL 4248-5 Fuseholders—Part 5: Class G.
|  | UL 4248-6 Fuseholders—Part 6: Class H.
|  | UL 4248-8 Fuseholders—Part 8: Class J.
|  | UL 4248-9—Fuseholders—Part 9: Class K.
|  | UL 4248-11 Fuseholders—Part 11: Type C (Edison Base) and Type S Plug Fuse.
|  | UL 4248-12 Fuseholders—Part 12: Class R.
|  | UL 4248-15 Fuseholders—Part 15: Class T (for all replacement standards, see Note 3 below).
UL 544 Medical and Dental Equipment | Withdrawn | UL 60601-1 Medical Electrical Equipment, Part 1: General Requirements for Safety (see Note 2 below).
UL 651B Continuous Length HDPE Conduit | Withdrawn | UL 651A Schedule 40 and 80 High Density Polyethylene (HDPE) Conduit (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 2 below).
UL 745-2-4 Particular Requirements for Sanders | Withdrawn | UL 60745-2-4 Hand-Held Motor-Operated Electric Tools—Safety—Part 2-4: Particular Requirements for Sanders and Polishers Other Than Disk Type (see Note 2 below).
UL 745-2-6 Particular Requirements for Hammers | Withdrawn | UL 60745-2-6 Hand-Held Motor-Operated Electric Tools—Safety—Part 2-6: Particular Requirements for Hammers (see Note 2 below).
UL 745-2-8 Particular Requirements for Shears and Nibblers | Withdrawn | UL 60745-2-8 Hand-Held Motor-Operated Electric Tools Safety—Part 2-8: Particular Requirements for Shears and Nibblers (see Note 2 below).
UL 745-2-9 Particular Requirements for Tappers | Withdrawn | UL 60745-2-9 Hand-Held Motor-Operated Electric Tools—Safety—Part 2-9: Particular Requirements for Tappers (see Note 2 below).
UL 745-2-11 Particular Requirements for Reciprocating Saws | Withdrawn | UL 60745-2-11 Hand-Held Motor-Operated Electric Tools—Safety—Part 2-11: Particular Requirements for Reciprocating Saws (see Note 2 below).
UL 745-2-12 Particular Requirements for Concrete Vibrators | Withdrawn | UL 60745-2-12 Hand-Held Motor-Operated Electric Tools—Safety—Part 2-12: Particular Requirements For Concrete Vibrators (see Note 2 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 2 below).
UL 745-2-34 Particular Requirements for Strapping Tools | Withdrawn | UL 60745-2-18 Hand-Held Motor-Operated Electric Tools—Safety—Part 2-18: Particular Requirements For Strapping Tools (see Note 2 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed-Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 2 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 2 below).
UL 1005 Electric Flatirons | Withdrawn | UL 60335-2-3 Household and Similar Electrical Appliances, Part 2: Particular Requirements for Electric Irons (see Note 3 below).
UL 1010 Receptacle Plug Combinations for Use in Hazardous (Classified) Locations | Withdrawn | UL 1203 Explosion Proof and Dust Ignition Proof Electrical Equipment for Use in Hazardous (Classified) Locations (see Note 2 below).
UL 1075 Gas-Fired Cooking Appliances for Recreational Vehicles | Withdrawn | No replacement.
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1445 Electric Water Bed Heaters | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 2 below).
UL 1664 Immersion Detection Circuit Interrupters | Withdrawn | No replacement.
UL 1666 Test for Flame Propagation Height of Electrical and Optical Fiber Cables Installed Vertically in Shafts | Test method; therefore, not an appropriate test standard | NA.
UL 1684 Reinforced Thermosetting Resin Conduit (RTRC) and Fittings | Withdrawn | UL 2420 Belowground Reinforced Thermosetting Resin Conduit (RTRC) and Fittings and UL 2515 Aboveground Reinforced Thermosetting Resin Conduit (RTRC) and Fittings (for both replacement standards, see Note 3 below).
UL 1686 Pin and Sleeve Configurations | Not an appropriate test standard; does not specify safety requirements for covered devices; provides the physical dimensions for covered devices only | NA.
UL 1692 Polymeric Materials Coil Forms | No requirement for NRTL approval because the standard covers components that are not appropriate for use as end-use products | NA.
UL 1694 Tests for Flammability of Small Polymeric Component Materials) | No requirement for NRTL approval because the standard covers components that are not appropriate for use as end-use products | NA.
UL 2106 Field Erected Boiler Assemblies | No requirement for NRTL approval in OSHA requirements; test standard applies to boilers burning fuel | NA.
UL 60691 Thermal-Links-Requirements and Application Guide | No requirement for NRTL approval because the standard covers components that are not appropriate for use as end-use products | NA.

Note 2: OSHA believes the proposed replacement test standard is comparable to the withdrawn test standard. Moreover, OSHA already includes the proposed replacement test standard in the NRTL's scope of recognition. Therefore, no further demonstration of capability is necessary at this time.

Note 3: OSHA believes the proposed replacement test standard is comparable to the withdrawn test standard. Therefore, OSHA proposes to incorporate the replacement test standard into the NRTLs' scopes of recognition without requiring the NRTL to further demonstrate capability, as specified by 29 CFR 1910.7(b)(1).

V. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2)), Secretary of Labor's Order No. 1-2012 (77 FR 3912, Jan. 25, 2012), and 29 CFR 1910.7.

Signed at Washington, DC, on June 20, 2013.
David Michaels,
Assistant Secretary of Labor for Occupational Safety and Health.

[FR Doc. 2013-15228 Filed 6-25-13; 8:45 am]

BILLING CODE 4510-26-P